FEDERAL COMMUNICATIONS COMMISSION

[OMB 3060-0059]

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before March 18, 2016. If you anticipate that you will be submitting comments, but find it difficult to do so within the period of time allowed by this notice, you should advise the contacts below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the SUPPLEMENTARY INFORMATION section below.

FOR FURTHER INFORMATION CONTACT: For additional information or copies of the information collection, contact Nicole Ongele at (202) 418-2991. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0059.

Title: Statement Regarding the Importation of Radio Frequency Devices Capable of Harmful Interference.

Form No.: FCC Form 740.

Type of Review: Extension of a currently approved collection.

Respondents: Business or other for-profit entities.

Number of Respondents and Responses: 10,000 respondents, 2,000,000 responses.

Estimated Time per Response: 30 seconds (.0084 hours).

Frequency of Response: One-time reporting requirement and third-party disclosure requirement.

Obligation to Respond: Required to obtain or retain benefits. Statutory authority for this collection of information is contained in 47 U.S.C. 154(i), 157(a), 302(a), 303(b), 303(f), 303(g) and 303(r).

Total Annual Burden: 33,600 hours.

Total Annual Costs: No Costs.

Privacy Act Impact Assessment: No impact(s).

Nature and Extent of Confidentiality: There are no confidentiality issues.

Needs and Uses: The Commission will submit this expiring information collection to the Office of Management and Budget (OMB) after this 60 day comment period in order to obtain the full three year clearance from them.

The FCC is responsible for the regulation of both authorized radio services and devices that can cause interference. The FCC, working in conjunction with U.S. Customs and Border Protection (CBP), is responsible for ensuring that radio frequency devices imported into the United States are properly authorized. FCC Form 740 must be completed for each radio frequency device which is imported into the United States, and is used to keep non-compliant devices from being distributed to the general public, thereby reducing the potential for harmful interference being caused to authorized communications. FCC Form 740 is submitted to CBP electronically or, in a few cases, in paper format. The FCC Form 740 is not submitted to the Federal Communications Commission. FCC works with the CBP to resolve issues related to the importation of unauthorized radio frequency devices, and can issue fines for violation of its rules.

This information collection extension does not affect the ongoing rulemaking in ET Docket 15-170, which includes proposed rules that would modify or eliminate FCC Form 740.

Federal Communications Commission.
Marlene H. Dortch,
Secretary.

[FR Doc. 2016-03076 Filed 2-16-16; 8:45 am]

BILLING CODE 6712-01-P